DEPARTMENT OF HOMELAND SECURITY

Coast Guard

33 CFR Part 169

[USCG-2005-22612]

RIN 1625—AB00

Long Range Identification and Tracking of Ships

AGENCY: Coast Guard, DHS.

ACTION: Notice; announcement of approval of collection of information.

SUMMARY: On April 29, 2008, we published a final rule entitled “Long Range Identification and Tracking of Ships” (LRIT). In it we noted that the Office of Management and Budget (OMB) had not yet approved a collection of information, “Enhanced Maritime Domain Awareness via Electronic Transmission of Vessel Transit Data,” associated with the LRIT rule. This document provides notice that on August 12, 2008, OMB approved the referenced collection of information associated with the LRIT final rule.

DATES: On August 12, 2008, OMB approved the collection of information associated with the LRIT final rule published in the Federal Register on April 29, 2008 (73 FR 23310).

FOR FURTHER INFORMATION CONTACT: If you have questions on this document contact Mr. William Cairns, Office of Navigation Systems, Coast Guard, telephone 202-372-1557, e-mail William.R.Cairns@uscg.mil. If you have questions on viewing the docket (USCG-2005-22612), call Ms. Renee V. Wright, Program Manager, Docket Operations, telephone 202-366-9826.

SUPPLEMENTARY INFORMATION: The Coast Guard published a final rule concerning long range information and tracking of certain ships to report identifying and position data electronically on April 29, 2008 (73 FR 23310). That rule became effective on May 29, 2008, and contains implementation dates starting December 31, 2008. See 33 CFR 169.220.

The Coast Guard described collection of information provisions in both the final rule and in the LRIT notice of proposed rulemaking (NPRM) published October 3, 2007 (72 FR 56600). In the NPRM, in addition to comments on the rule, we also requested comments on its collection of information provisions.

The rule's § 169.215 of 33 CFR requires ships to transmit position reports using long range identification and tracking (LRIT) equipment that has been type-approved by their Administration. Its § 169.230 of the same title requires ships' LRIT equipment to transmit position reports at 6-hour intervals unless a more frequent interval is requested remotely by an LRIT Data Center. And its § 169.245 requires a ship's master to inform his or her Flag Administration without undue delay if LRIT equipment is switched off or fails to operate. The master must also make an entry in the ship's logbook that states his or her reason for switching the LRIT equipment off, or an entry that the equipment has failed to operate, and the period during which the LRIT equipment was switched off or non-operational.

The LRIT NPRM and final rule are available electronically through the docket (USCG-2005-22612) at www.regulations.gov. On August 12, 2008, under 44 U.S.C. 3505(c), OMB approved the collection of information associated with the requirements in §§ 169.215, 169.230, and 169.245 of the LRIT final rule under OMB control number 1625-0112. A copy of the OMB notice of action is available in our online docket.

Dated: August 15, 2008.
Howard L. Hime,
Acting Director of Commercial Regulations and Standards, U.S. Coast Guard.

[FR Doc. E8-19307 Filed 8-19-08; 8:45 am]

BILLING CODE 4910-15-P